INTERNATIONAL TRADE COMMISSION

[Investigation No. 337-TA-1258]

Certain Smart Thermostat Systems, Smart HVAC Systems, Smart HVAC Control Systems, and Components Thereof; Notice of Commission Decision Not To Review an Initial Determination Granting an Unopposed Motion To Amend the Complaint and Notice of Investigation

AGENCY: U.S. International Trade Commission.

ACTION: Notice.

SUMMARY: Notice is hereby given that the U.S. International Trade Commission has determined not to review an initial determination (“ID”) (Order No. 4) of the presiding administrative law judge (“ALJ”) granting an unopposed motion to amend the complaint and notice of investigation to substitute Johnson Controls Inc. for respondent Johnson Controls International, PLC.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On April 2, 2021, the Commission instituted this investigation under section 337 of the Tariff Act of 1930, as amended, 19 U.S.C. 1337 (“section 337”), based on a complaint filed by EcoFactor, Inc. of Palo Alto, California (“Complainant”). See 86 FR 17402-03 (Apr. 2, 2021). The complaint, as amended and supplemented, alleges a violation of section 337 based upon the importation into the United States, the sale for importation, and the sale within the United States after importation of certain smart thermostat systems, smart HVAC systems, smart HVAC control systems, and components thereof by reason of infringement of certain claims of U.S. Patent Nos. 8,423,322; 8,019,567; 10,612,983; 8,596,550; and 8,886,488. See id. The notice of investigation names the following respondents: Ecobee Ltd. and Ecobee, Inc. of Toronto, Canada; Google LLC of Mountain View, California; Carrier Global Corporation of Palm Beach Gardens, Florida; Emerson Electric Co. of St. Louis, Missouri; Honeywell International Inc. of Charlotte, North Carolina; Resideo Technologies, Inc. of Austin, Texas; Johnson Controls International, PLC of Cork, Ireland; Siemens Industry, Inc. of Buffalo Grove, Illinois; and Siemens AG of Munich, Germany. See id. The Office of Unfair Import Investigations is not a party to the investigation. See id.

On April 12, 2021, the ALJ issued an ID terminating Emerson Electric Co.; Siemens Industry, Inc.; and Siemens AG from the investigation. See Order No. 3 (Apr. 12, 2021), unreviewed by Comm'n Notice (Apr. 29, 2021).

On April 19, 2021, Complainant filed an unopposed motion for leave to amend the complaint and notice of investigation to add proposed respondent Johnson Controls Inc. (“Proposed Respondent”) and to terminate respondent Johnson Controls International, PLC (“Terminated Respondent”). No responses to the motion were filed.

On April 20, 2021, the ALJ issued the subject ID (Order No. 4) granting the motion. The ID finds that the motion complies with Commission Rule 210.14(b) (19 CFR 210.14(b)) and that good cause exists to amend the complaint and notice of investigation. See ID at 3. In particular, Complainant learned that the Terminated Respondent does not import, sell for importation, or sell after importation any of the products at issue in the complaint. See id. at 2. In addition, the Proposed Respondent was identified as the appropriate entity. See id. The ID also finds that “no prejudice to the public interest or to the rights of the parties to the investigation will result from granting the motion.” See id. at 3. No petition for review of the subject ID was filed.

The Commission has determined not to review the subject ID. Respondent Johnson Controls International, PLC is terminated from the investigation. Johnson Controls Inc. is named as a respondent in this investigation.

The Commission's vote for this determination took place on May 11, 2021.

The authority for the Commission's determination is contained in section 337 of the Tariff Act of 1930, as amended (19 U.S.C. 1337), and in part 210 of the Commission's Rules of Practice and Procedure (19 CFR part 210).

By order of the Commission.
Issued: May 11, 2021.
Lisa Barton,
Secretary to the Commission.

[FR Doc. 2021-10255 Filed 5-13-21; 8:45 am]

BILLING CODE 7020-02-P